NATIONAL AERONAUTICS AND SPACE ADMINISTRATION

[Notice: (02-011)]

Agency Information Collection Activities

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information collection is utilized by NASA procurement and technical personnel in the management of contracts valued at less than $500K.

DATES: Comments on this proposal should be received on or before March 1, 2002.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: NASA Acquisition Process—Reports Required On Contracts Valued at Less Than $500K.

OMB Number: 2700-0088.

Type of review: Extension.

Need and Uses: Information is used by NASA procurement and technical personnel in the management of contracts. Collection is prescribed in the NASA Federal Acquisition Regulation Supplement and approved mission statements.

Affected Public: Business or other for-profit; Not-for-profit institutions; State, Local or Tribal Government.

Number of Respondents: 1,282.

Responses Per Respondent: 30.

Annual Responses: 38,460.

Hours Per Request: 27 hrs.

Annual Burden Hours: 1,065,600.

Frequency of Report: On occasion.

David B. Nelson,
Deputy Chief Information Officer, Office of the Administrator.

[FR Doc. 02-2191 Filed 1-29-02; 8:45 am]

BILLING CODE 7510-01-P